SECURITIES AND EXCHANGE COMMISSION

17 CFR Part 220

[Release Nos. 33-9071A; 34-60798A; IC-28943A; File No. S7-25-09]

RIN 3235-AK45

Concept Release on Possible Rescission of Rule 436(g) Under the Securities Act of 1933

AGENCY: Securities and Exchange Commission.

ACTION: Concept release; request for comments; correction.

SUMMARY: This document corrects the file number in the preamble to a concept release on possible rescission of rule 436(g) under the Securities Act of 1933 published in the Federal Register of Thursday, October 15, 2009 (74 FR 53114). The file number should read as set forth above.

FOR FURTHER INFORMATION CONTACT: Questions concerning this correction should be directed to Linda Cullen, Office of the Secretary, at (202) 551-5402.

Correction

In FR Doc. E9-24547 published on October 15, 2009, (74 FR 53114) beginning on page 53114, make the following corrections:

1. On page 53114, second column, in the ADDRESSES section, second bullet under Electronic Comments, 3rd line, revise “S7-21-09” to read “S7-25-09”; and

2. On page 53114, in the second column, in the ADDRESSES section, under Paper Comments, 7th line, revise “S7-21-09” to read “S7-25-09”.

Dated: October 22, 2009.
Elizabeth M. Murphy,
Secretary.

[FR Doc. E9-25811 Filed 10-26-09; 8:45 am]

BILLING CODE 8011-01-P